DEPARTMENT OF COMMERCE

International Trade Administration

[A-570-979]

Crystalline Silicon Photovoltaic Cells, Whether or Not Assembled Into Modules, From the People's Republic of China: Final Results and Final Partial Rescission of Antidumping Duty Administrative Review; and Final Determination of No Shipments; 2021-2022

AGENCY: Enforcement and Compliance, International Trade Administration, Department of Commerce.

SUMMARY: The U.S. Department of Commerce (Commerce) has determined that Shenzhen Sungold Solar Co., Ltd. (Sungold), and the companies to which Commerce granted separate rates, did not sell subject merchandise at prices below normal value (NV) during the period December 1, 2021, through November 30, 2022, the period of review (POR). Commerce also determined that certain companies do not qualify for a separate rate, and that it is appropriate to rescind this review with respect to certain companies that did not ship subject merchandise during the POR.

DATES: Applicable July 5, 2024.

FOR FURTHER INFORMATION CONTACT: Dakota Potts or Paola Aleman Ordaz, AD/CVD Operations, Office IV, Enforcement and Compliance, International Trade Administration, U.S. Department of Commerce, 1401 Constitution Avenue NW, Washington, DC 20230; telephone: (202) 482-0223 or (202) 482-4031, respectively.

SUPPLEMENTARY INFORMATION:

Background

On January 4, 2024, Commerce published the Preliminary Results of this review in the Federal Register.¹ For details regarding the events that occurred since publication of the Preliminary Results in the Federal Register, see the Issues and Decision Memorandum.² Commerce conducted this administrative review in accordance with section 751 of the Tariff Act of 1930, as amended (the Act).

¹ See Crystalline Silicon Photovoltaic Cells, Whether or Not Assembled Into Modules, from the People's Republic of China: Preliminary Results of Antidumping Duty Administrative Review, Partial Rescission of Antidumping Administrative Review, and Preliminary Determination of No Shipments; 2021-2022, 89 FR 457 (January 4, 2024) (Preliminary Results), and accompanying Preliminary Decision Memorandum (PDM).

² See Memorandum “Decision Memorandum for the Final Results of the Administrative Review of the Antidumping Duty Order on Crystalline Silicon Photovoltaic Cells, Whether or Not Assembled into Modules, from the People's Republic of China; 2021-2022” dated concurrently with, and adopted by, this notice (Issues and Decision Memorandum).

Scope of the Order ³

³ See Crystalline Silicon Photovoltaic Cells, Whether or Not Assembled Into Modules, from the People's Republic of China: Amended Final Determination of Sales at Less Than Fair Value, and Antidumping Duty Order, 77 FR 73018 (December 7, 2012) (Order).

The merchandise covered by the Order is crystalline silicon photovoltaic cells, and modules, laminates, and panels, consisting of crystalline silicon photovoltaic cells, whether or not partially or fully assembled into other products, including, but not limited to, modules, laminates, panels and building integrated materials. For a complete description of the scope of the Order, see the Issues Decision Memorandum.

Analysis of Comments Received

We addressed all the issues raised in interested parties' case and rebuttal briefs in the Issues and Decision Memorandum. A list of the issues raised in parties' briefs is included in Appendix I to this notice. The Issues and Decision Memorandum is a public document and is on file electronically via Enforcement and Compliance's Antidumping and Countervailing Duty Centralized Electronic Service System (ACCESS). ACCESS is available to registered users at https://access.trade.gov. In addition, the Issues and Decision Memorandum can be accessed directly at https://access.trade.gov/public/FRNoticesListLayout.aspx.

Changes Since the Preliminary Results

Based on our analysis of the comments received, and for the reasons explained in the Issues and Decision Memorandum, we revised the surrogate value of the EVA input used by Sungold.

Partial Rescission of Administrative Review

In the Preliminary Results, Commerce determined that certain companies did not have suspended entries of subject merchandise during the POR and thus, announced its intent to rescind the review with respect to these companies.⁴ For these final results, we continue to determine that, the companies that are listed in Appendix II do not have any suspended entries of subject merchandise during the POR. Accordingly, for the companies that are listed in Appendix II to this notice, Commerce has rescinded its review of these companies.

⁴ See Preliminary Results, 89 FR at 458. Other than Red Sun Energy Co., Ltd., whose comments we address in the accompanying Issues and Decision Memorandum, no parties commented on Commerce's preliminary rescission determination.

China-Wide Entity

In the Preliminary Results, Commerce found that 35 companies for which a review was initiated did not establish their eligibility for a separate rate.⁵ No parties contested this finding (see discussion regarding the Yingli single entity below). As such, we continue to determine these 35 companies identified in Appendix III are part of the China-wide entity. Because no party requested a review of the China-wide entity, and Commerce no longer considers the China-wide entity as an exporter conditionally subject to administrative reviews,⁶ we did not conduct a review of the China-wide entity. Thus, the weighted-average dumping margin for the China-wide entity rate (i.e., 238.95 percent) is not subject to change.⁷

⁵ Id.

⁶ See Antidumping Proceedings: Announcement of Change in Department Practice for Respondent Selection in Antidumping Duty Proceedings and Conditional Review of the Nonmarket Economy Entity in NME Antidumping Duty Proceedings, 78 FR 65963, 65969-70 (November 4, 2013).

⁷ See Order, 83 FR at 60397.

Final Determination of No Shipments

No parties commented on Commerce's preliminary no shipments determination ⁸ with respect to Trina Solar (Changzhou) Science and Technology Co., Ltd. (Trina Solar Changzhou) and Jinko Solar.⁹ For these final results of review, Commerce has continued to determine that these two companies/company groupings did not export or sell subject merchandise, nor did they have knowledge that their subject merchandise was entered into the United States, during the POR.

⁸ See Preliminary Results PDM at 8-10.

⁹ Jinko Solar refers to the following companies which Commerce treated as a single entity: Jinko Solar Import and Export Co., Ltd.; Jinko Solar Co., Ltd.; Jinko Solar Technology (Haining) Co., Ltd.; Yuhuan Jinko Solar Co., Ltd.; Zhejiang Jinko Solar Co., Ltd.; Jiangsu Jinko Tiansheng Solar Co., Ltd. ; JinkoSolar (Chuzhou) Co., Ltd.; JinkoSolar (Yiwu) Co., Ltd.; and JinkoSolar (Shangrao) Co., Ltd.

Separate Rates

With the exception of Commerce's decision to deny Yingli ¹⁰ a separate rate, no parties commented on Commerce's preliminary separate rate determinations. Commerce has continued to grant the companies that are listed in the table in the “Final Results of Review” section of this notice a separate rate, but has continued to deny a separate rate to the companies, including Yingli,¹¹ that are listed in Appendix III to this notice, which are part of the China-wide entity and subject to the China-wide entity rate.

¹⁰ Yingli refers to the following companies which Commerce treated as a single entity: (1) Shenzhen Yingli New Energy Resources Co., Ltd.; (2) Baoding Jiasheng Photovoltaic Technology Co. Ltd.; (3) Baoding Tianwei Yingli New Energy Resources Co., Ltd.; (4) Beijing Tianneng Yingli New Energy Resources Co., Ltd.; (5) Hainan Yingli New Energy Resources Co., Ltd.; (6) Hengshui Yingli New Energy Resources Co., Ltd.; (7) Lixian Yingli New Energy Resources Co., Ltd.; (8) Tianjin Yingli New Energy Resources Co., Ltd.; and (9) Yingli Energy (China) Company Limited.

¹¹ See Issues and Decision Memorandum at Comment 3.

Dumping Margin for Separate Rate Companies

The statute and Commerce's regulations do not address what dumping margin to apply to respondents that are not selected for individual examination in an administrative review pursuant to section 777A(c)(2) of the Act. Generally, Commerce looks to section 735(c)(5) of the Act, which provides instructions for calculating the all-others rate in an investigation, for guidance when calculating the dumping margin for respondents that are not individually examined in an administrative review. Under section 735(c)(5)(A) of the Act, the all-others rate is normally “equal to the weighted average of the estimated weighted average dumping margins established for exporters and producers individually investigated, excluding any zero and de minimis dumping margins, and any dumping margins determined entirely {on the basis of facts available}.” When the weighted-average dumping margins established for all individually examined respondents are zero, de minimis, or based entirely on facts available, section 735(c)(5)(B) of the Act permits Commerce to “use any reasonable method to establish the estimated all-others rate for exporters and producers not individually investigated, including averaging the estimated weighted average dumping margins determined for the exporters and producers individually investigated.” Consistent with Commerce's practice,¹² we have determined that a reasonable method would be to assign a dumping margin to the non-individually examined separate rate companies equal to the zero percent dumping margin calculated for Sungold.

¹² See Wooden Cabinet and Vanities and Components Thereof From the People's Republic of China: Final Results and Partial Rescission of the Antidumping Duty Administrative Review; 2019-2021, 87 FR 67674 (November 9, 2022), and accompanying Issues and Decision Memorandum at Comment 5.

Final Results of Review

Commerce determines that the following weighted-average dumping margins exist for the period December 1, 2021, through November 30, 2022:

Exporter | Weighted- average dumping margin (percent)
Shenzhen Sungold Solar Co., Ltd | 0.00
Separate Rate Companies
BYD (Shangluo) Industrial Co., Ltd | 0.00
Hongkong Hello Tech Energy Co., Ltd | 0.00
Trina Solar Co., Ltd | 0.00
Trina Solar Science & Technology (Thailand) Ltd | 0.00
Zhejiang Aiko Solar Energy Technology Co., Ltd | 0.00

Disclosure

Commerce intends to disclose to parties to the proceeding the calculations performed for these final results of review within five days of the date of publication of this notice in the Federal Register in accordance with 19 CFR 351.224(b).

Assessment Rates

Because the weighted average dumping margins for the companies that are listed in the table in the “Final Results of Review” section of this notice are zero percent, Commerce will instruct CBP to liquidate entries of the companies' subject merchandise during the POR without regard to antidumping duties. Commerce intends to issue assessment instructions to CBP no earlier than 35 days after the date of publication of this notice in the Federal Register. If a timely summons is filed at the U.S. Court of International Trade, in its assessment instructions Commerce will direct CBP not to liquidate relevant entries until the time for parties to file a request for a statutory injunction has expired (i.e., within 90 days of publication).

Pursuant to a refinement of its practice, Commerce will instruct CBP to liquidate entries of Sungold's subject merchandise for which sales were not reported in the U.S. sales database at the China-wide entity rate.¹³

¹³ See Solar Cells from China AR1 Final, 80 FR at 41002.

Additionally, Commerce will instruct CBP to liquidate entries of subject merchandise during the POR that were recorded under the company-specific case numbers for Trina Solar Changzhou or Jinko Solar at the China-wide entity rate.

Cash Deposit Requirements

The following cash deposit requirements will be in effect for all shipments of subject merchandise entered, or withdrawn from warehouse, for consumption on, or after, the date of publication of this notice in the Federal Register, as provided for by section 751(a)(2)(C) of the Act: (1) for the exporters that are listed in the table in the “Final Results of Review” section of this notice above, the cash deposit rate will be zero percent; (2) for previously investigated or reviewed Chinese and non-Chinese exporters that are not listed in the rate table in the “Final Results of Review” section of this notice above that have separate rates, the cash deposit rate will continue to be the exporter's existing cash deposit rate; (3) for all China exporters of subject merchandise that do not have a separate rate, the cash deposit rate will be equal to the weighted-average dumping margin assigned to the China-wide entity, which is 238.95 percent, and (4) for all non-China exporters of subject merchandise that do not have a separate rate, the cash deposit rate will be equal to the weighted-average dumping margin applicable to the China exporter(s) that supplied that non-China exporter. These cash deposit requirements, when imposed, shall remain in effect until further notice.

Notification to Importers Regarding the Reimbursement of Duties

This notice also serves as a final reminder to importers of their responsibility under 19 CFR 351.402(f)(2) to file a certificate regarding the reimbursement of antidumping and/or countervailing duties prior to liquidation of the relevant POR entries. Failure to comply with this requirement could result in Commerce's presumption that reimbursement of antidumping and/or countervailing duties has occurred and the subsequent assessment of doubled antidumping duties, and/or an increase in the amount of antidumping duties by the amount of the countervailing duties.

Administrative Protective Order (APO)

This notice also serves as a reminder to parties subject to an APO of their responsibility concerning the return or destruction of proprietary information disclosed under an APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing these final results of administrative review and publishing this notice in accordance with sections 751(a)(1) and 777(i) of the Act and 19 CFR 351.213(h)(2) and 19 CFR 351.221(b)(5).

Dated: June 28, 2024.
Ryan Majerus,
Deputy Assistant Secretary for Policy and Negotiations, performing the non-exclusive functions and duties of the Assistant Secretary for Enforcement and Compliance.

Appendix I

List of Topics Discussed in the Issues and Decision Memorandum

I. Summary

II. Background

III. Scope of the Order

IV. Changes Since the Preliminary Results

V. Discussion of the Issues

Comment 1: Whether to Rescind the Administrative Review with Respect to Red Sun

Comment 2: Whether BYD HK Should Be Allowed to File a Separate Rate Application in the Future

Comment 3: Whether to Grant Yingli a Separate Rate

Comment 4: Whether Commerce Applied an Appropriate Partial Adverse Facts Available Methodology

Comment 5: The Appropriate Surrogate Values for Sungold's Junction Box and EVA Input

VI. Recommendation

Appendix II

Companies for Which Commerce Is Rescinding the Review

1. Canadian Solar International Limited; Canadian Solar Manufacturing (Changshu) Inc.; Canadian Solar Manufacturing (Luoyang) Inc.; CSI Cells Co., Ltd.; CSI Solar Co., Ltd.; and CSI Solar Manufacturing (Fu Ning) Co., Ltd.

2. Chint Solar (Hong Kong) Company Limited; Chint Solar (Jiuquan) Co., Ltd.; Chint Solar (Zhejiang) Co., Ltd.; and Chint New Energy Technology (Haining) Co., Ltd.

3. JA Solar Technology Yangzhou Co., Ltd.

4. Jiawei Solarchina Co., Ltd.

5. JingAo Solar Co., Ltd.

6. Longi Solar Technology Co. Ltd.

7. Red Sun Energy Long An Company Limited a.k.a Red Sun Energy Co., Ltd.

8. Risen Energy Co. Ltd.; Risen Energy (Changzhou) Co., Ltd.; Risen (Wuhai) New Energy Co., Ltd.; Zhejiang Twinsel Electronic Technology Co., Ltd.; Risen (Luoyang) New Energy Co., Ltd.; Jiujiang Shengchao Xinye Technology Co., Ltd.; Jiujiang Shengzhao Xinye Trade Co., Ltd.; Ruichang Branch, Risen Energy (HongKong) Co., Ltd.; and Risen Energy (YIWU) Co., Ltd.

9. Shanghai BYD Co., Ltd.

10. Shanghai JA Solar Technology Co., Ltd.

11. Shenzhen Topray Solar Co., Ltd.

12. Wuxi Tianran Photovoltaic Co., Ltd.

13. Xiamen Yiyusheng Solar Co., Ltd.

Appendix III

Companies Determined To Be Part of the China-Wide Entity

1. Renesola Jiangsu Ltd.

2. BYD H.K. Co., Ltd.

3. CSI Modules (DaFeng) Co., Ltd.

4. De-Tech Trading Limited HK

5. Hengdian Group DMEGC Magnetics Co. Ltd.

6. JA Solar Co., Ltd.

7. Jiawei Solarchina (Shenzhen) Co., Ltd.

8. Lightway Green New Energy Co., Ltd.

9. Longi (HK) Trading Ltd.

10. Ningbo ETDZ Holdings, Ltd.

11. Ningbo Qixin Solar Electrical Appliance Co., Ltd.

12. ReneSola Zhejiang Ltd.

13. Shanghai Nimble Co., Ltd.

14. Sumec Hardware & Tools Co., Ltd.

15. Suntech Power Co., Ltd.

16. Taizhou BD Trade Co., Ltd.

17. tenKsolar (Shanghai) Co., Ltd.

18. Trina Solar Energy Development PTE Ltd.

19. Jinko Solar International Limited

20. Luoyang Suntech Power Co., Ltd.

21. Trina Solar (Singapore) Science and Technology Pte. Ltd.

22. Yingli Green Energy International Trading Company Limited

23. Trina Solar Energy Development Company Limited

24. Changzhou Trina Hezhong Photoelectric Co., Ltd.

25. Changzhou Trina Solar Energy Co., Ltd.

26. Changzhou Trina Solar Yabang Energy Co., Ltd.

27. Hubei Trina Solar Energy Co., Ltd.

28. Trina Solar (Hefei) Science and Technology Co., Ltd.

29. Turpan Trina Solar Energy Co., Ltd.

30. Yancheng Trina Guoneng Photovoltaic Technology Co., Ltd.

31. Yancheng Trina Solar Energy Technology Co., Ltd.

32. Anji DaSol Solar Energy Science & Technology Co., Ltd.

33. Maodi Solar Technology (Dongguan) Co., Ltd.

34. Shenzhen Yingli New Energy Resources Co., Ltd.; Baoding Jiasheng Photovoltaic Technology Co. Ltd.; Baoding Tianwei Yingli New Energy Resources Co., Ltd.; Beijing Tianneng Yingli New Energy Resources Co., Ltd.; Hainan Yingli New Energy Resources Co., Ltd.; Hengshui Yingli New Energy Resources Co., Ltd.; Lixian Yingli New Energy Resources Co., Ltd.; Tianjin Yingli New Energy Resources Co., Ltd.; and Yingli Energy (China) Company Limited (Yingli Energy China).

35. Wuxi Suntech Power Co., Ltd.

[FR Doc. 2024-14763 Filed 7-3-24; 8:45 am]

BILLING CODE 3510-DS-P